FEDERAL MARITIME COMMISSION

[Petition No. P4-18]

Notice of Filing and Request for Comments; Petition of Dole Ocean Cargo Express Inc. for an Exemption

Notice is hereby given that Dole Ocean Cargo Express Inc. (“Petitioner”) has petitioned the Commission pursuant to 46 CFR 502.94 “. . . for relief from provisions of 46 CFR 530.10 relating to the filing of individual service contract amendments.” Petitioner states it is an ocean common carrier. “As part of an internal corporate restructuring, on or about November 1, 2018, the assets of [the Petitioner] will be transferred to a new limited liability company, Dole Ocean Cargo Express, LLC.” Petitioner states that “among the assets being transferred are . . . service contracts with its customers, which will be assigned to Dole Ocean Cargo Express, LLC.” Petitioner states that the transfer “. . . in accordance with the terms of those contracts and the applicable contract law, would require the filing with the FMC of an amendment to each service contract.” Petitioner alleges that “[i]t would be an undue burden on [Petitioner] to prepare and file an individual amendment for each of these service contracts.”

In order for the Commission to make a thorough evaluation of the requested exemption and rulemaking presented in the Petition, pursuant to 46 CCFR 502.92, interested parties are requested to submit views or arguments in reply to the Petition no later than October 2, 2018. Replies shall be sent to the Secretary by email to Secretary@fmc.gov or by mail to Federal Maritime Commission, 800 North Capitol Street NW, Washington, DC 20573-0001, and replies shall be served on Petitioner's counsel, Wayne R. Rohde, Cozen O' Connor, 1200 19th St. NW, Suite 300, Washington, DC 20036, wrohde@cozen.com.

Non-confidential filings may be submitted in hard copy to the Secretary at the above address or by email as a PDF attachment to Secretary@fmc.gov and include in the subject line: P4-18 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P4-18. Replies filed in response to the Petition will also be posted on the Commission's website at this location.

Served September 17, 2018.
Rachel E. Dickon,
Secretary.

[FR Doc. 2018-20523 Filed 9-24-18; 8:45 am]

BILLING CODE 6731-AA-P